CHEMICAL SAFETY AND HAZARD INVESTIGATION BOARD

Interim Guidelines for Ensuring and Maximizing the Quality, Objectivity, Utility, and Integrity of Disseminated Information

AGENCY: Chemical Safety and Hazard Investigation Board.

ACTION: Notice of availability of guidelines and request for comments.

SUMMARY: The Chemical Safety and Hazard Investigation Board (CSB) announces that its Interim Guidelines for Ensuring and Maximizing the Quality, Objectivity, Utility, and Integrity of Information Disseminated by the agency have been posted on the CSB Web site, http://www.csb.gov. The CSB invites public comments on its interim Guidelines and will consider the comments received in developing its final Guidelines.

DATES: The CSB must receive written comments on or before May 23, 2003.

ADDRESSES: Comments must be in writing and should be addressed to Christopher W. Warner, General Counsel, Chemical Safety and Hazard Investigation Board, 2175 K Street, NW., Suite C-100, Washington, DC 20037.

FOR FURTHER INFORMATION CONTACT: Christopher W. Warner, 202-261-7600.

SUPPLEMENTARY INFORMATION: Section 515 of the Treasury and General Government Appropriations Act for Fiscal Year 2001 (Public Law 106-554) requires each Federal agency to publish guidelines for ensuring and maximizing the quality, objectivity, utility, and integrity of the information it disseminates. Agency guidelines must be based on government-wide guidelines issued by the Office of Management and Budget (OMB). In accordance with this statutory requirement and OMB instructions, the CSB has posted its interim Information Quality Guidelines on the agency Web site (http://www.csb.gov) and is publishing this notice of availability.

The Guidelines describe the CSB's procedures for ensuring the quality of information that it disseminates and the procedures by which an affected person or entity may obtain correction of information disseminated by the CSB that does not comply with the Guidelines. The CSB invites public comments on its interim Guidelines and will consider the comments received in developing its final Guidelines. Persons who cannot access the interim Guidelines through the Internet may request a paper copy by writing to the address listed in this notice.

(Authority: Sec. 515, Pub. L. 106-554; 114 Stat. 2763).

Dated: April 16, 2003.
Christopher W. Warner,
General Counsel.

[FR Doc. 03-9974 Filed 4-22-03; 8:45 am]

BILLING CODE 6350-01-P